NATIONAL AERONAUTICS AND SPACE ADMINISTRATION

[Notice: (17-012)]

NASA Advisory Council; Human Exploration and Operations Committee; Meeting

AGENCY: National Aeronautics and Space Administration.

ACTION: Notice of meeting.

SUMMARY: In accordance with the Federal Advisory Committee Act, as amended, the National Aeronautics and Space Administration (NASA) announces a meeting of the Human Exploration and Operations Committee of the NASA Advisory Council (NAC). This Committee reports to the NAC.

DATES: Tuesday, March 28, 2017, 9:30 a.m.-5:30 p.m.; and Wednesday, March 29, 2017, 8:00 a.m.-2:30 p.m. All times are Local Time.

ADDRESSES: NASA Headquarters, Glennan Conference Center (Room 1Q39), 300 E Street SW., Washington, DC 20546.

FOR FURTHER INFORMATION CONTACT: Dr. Bette Siegel, Executive Secretary, NAC Human Exploration and Operations Committee, NASA Headquarters, Washington, DC 20546, (202) 358-2245, or bette.siegel@nasa.gov.

SUPPLEMENTARY INFORMATION: The meeting will be open to the public up to the seating capacity of the room. This meeting is also available telephonically and by WebEx. You must use a touch tone phone to participate in this meeting. Any interested person may call the USA toll-free conference number 1-844-467-6272, and then the numeric participant passcode: 270812 followed by the # sign. To join via WebEx, link is https://nasa.webex.com/, the meeting number is 999 427 165, and the password is “Exploration@2017” (case sensitive).

The agenda for the meeting includes the following topics:

—Status of the NASA Human Exploration and Operations Mission Directorate

—Exploration Architecture Planning

—International Space Station and Low Earth Orbit Commercialization

—Space Life and Physical Sciences Research and Applications

—Commercial Space Division/Commercial Crew Program

—Exploration Systems Development Status

—Cislunar Hab/Environmental Control and Life Support System

—In-Space Power/Propulsion

Attendees will be requested to sign a register and to comply with NASA Headquarters security requirements, including the presentation of a valid picture ID to Security before access to NASA Headquarters. Due to the Real ID Act, Public Law 109-13, any attendees with driver's licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: Maine, Minnesota, Missouri, Montana, and Washington. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees that are U.S. citizens and Permanent Residents (green card holders) are requested to provide full name and citizenship status 3 working days in advance. Information should be sent to Dr. Bette Siegel via email at bette.siegel@nasa.gov. It is imperative that the meeting be held on these dates to the scheduling priorities of the key participants.

Patricia D. Rausch,
Advisory Committee Management Officer, National Aeronautics and Space Administration.

[FR Doc. 2017-04465 Filed 3-6-17; 8:45 am]

BILLING CODE 7510-13-P